DEPARTMENT OF COMMERCE

National Oceanic and Atmospheric Administration

RIN 0648-XD254

Greater Atlantic Regional Fisheries Office's Geographic Information Systems Program; Availability of Files

AGENCY: National Marine Fisheries Service (NMFS), National Oceanic and Atmospheric Administration (NOAA), Commerce.

ACTION: Notice, process for making GIS files available; opportunity to comment

SUMMARY: This notice announces the process for making available Geographic Information System files representing fisheries and regulated areas that are managed by the National Marine Fisheries Service's Greater Atlantic Regional Fisheries Office.

DATES: Written comments must be received (see ADDRESSES) on or before May 5, 2014.

ADDRESSES: You may submit comments on this document, identified NOAA-NMFS-2014-0049, by any of the following methods:

• Electronic Submissions: Submit all electronic public comments via the Federal eRulemaking Portal. Go to www.regulations.gov/#!docketDetail;D=NOAA-NMFS-2014-0049, click the “Comment Now!” icon, complete the required fields, and enter or attach your comments.

• Mail: Submit written comments to NMFS, Greater Atlantic Regional Fisheries Office, 55 Great Republic Drive, Gloucester, MA 01930, ATTN: GIS Committee.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Additional information regarding the publication of the GIS files (i.e., shapefiles) and the shapefiles may be obtained at www.nero.noaa.gov/gis or by contacting Dean Szumylo, Geographic Information Specialist, (978) 281-9479, dean.szumylo@noaa.gov; Douglas Potts, Sustainable Fisheries Division, (978) 281-9341, douglas.potts@noaa.gov; or Ellen Keane, Protected Resources Division, (978) 282-8476, ellen.keane@noaa.gov. Individuals who use a telecommunications device for the hearing impaired may call the Federal Information Relay Service at 1-800-877-8339 between 8 a.m. and 4 p.m. Eastern time, Monday through Friday, excluding Federal holidays.

SUPPLEMENTARY INFORMATION: Background: GIS is designed to capture, store, analyze, manage, and present all types of geographic data. Over the past decade, the use of these systems in fisheries management has grown rapidly and requests for geospatial data have increased. To satisfy the need for geospatial data, NMFS's Greater Atlantic Regional Fisheries Office (GARFO) has developed standardized, high-quality geospatial data for areas managed by GARFO. This includes areas authorized under the Magnuson-Stevens Fishery Conservation and Management Act, the Atlantic Coastal Fisheries Cooperative Management Act, the Endangered Species Act, and the Marine Mammal Protection Act.

Creation of GIS Files: In developing these files, we implemented standards and policies to ensure that the files are of high, known quality and are accompanied by the metadata that are compliant with the Federal Geographic Data Committee's Standards. Metadata is information that captures the basic characteristics of the data, its creation, its usage, and any constraints. Data files are in an ESRI shapefile format. In developing the GIS files, we interpreted any regulatory area boundary intended to be a straight line on a chart in Mercator projection to be a rhumb line. GARFO regulations frequently define an area's boundary by coordinates that define the corners of the feature. In developing the GIS files, errors may be introduced into the boundary if only the endpoints of the boundary are used. This error may increase as the distance between coordinates increases. To ensure that the shapefiles developed accurately represent the boundaries, we held the lines to a constant bearing by adding vertices between coordinates using the Construct Loxodrome tool or by densifying the line every 10 nautical miles in a Mercator projection within ESRI's ARcGIS software.

Data Availability: The files are in the form of ESRI shapefiles packaged as zipped files for each regulated area. As the files for each regulated area are finalized, they will be made publicly available via our Web site. Files may be downloaded from www.nero.noaa.gov/gis or obtained by written request to the GARFO (see ADDRESSES). For each regulated area, we provide the shapefile, the metadata (within the shapefile and as a PDF), and a reference map image (pdf and jpg format). The purpose of the reference map image is to allow users to quickly locate files for managed areas that are of interest.

Request for Comments: We will accept public comments on this new service, including data creation, as described above.

Dated: April 30, 2014.
Emily H. Menashes,
Acting Director, Office of Sustainable Fisheries, National Marine Fisheries Service.

[FR Doc. 2014-10229 Filed 5-2-14; 8:45 am]

BILLING CODE 3510-22-P